FEDERAL DEPOSIT INSURANCE CORPORATION

Sunshine Act Meeting

Pursuant to the provisions of the “Government in the Sunshine Act” (5 U.S.C. 552b), notice is hereby given that the Federal Deposit Insurance Corporation's Board of Directors will meet in open session at 10 a.m. on Tuesday, January 17, 2012, to consider the following matters:

Summary Agenda: No substantive discussion of the following items is anticipated. These matters will be resolved with a single vote unless a member of the Board of Directors requests that an item be moved to the discussion agenda.

Disposition of minutes of previous Board of Directors' Meetings.

Memorandum and resolution re: Final Rule on Resolution Plans Required for Insured Depository Institutions with $50 Billion or More in Total Assets.

Personnel Resolution for Retiring Executive.

Discussion Agenda

Memorandum and resolution re: Stress Testing Requirements for Certain Banks: Notice of Proposed Rulemaking to Implement Section 165(i)(2) of the Dodd-Frank Wall Street Reform and Consumer Protection Act.

The meeting will be held in the Board Room on the sixth floor of the FDIC Building located at 550 17th Street, NW., Washington, DC

This Board meeting will be Webcast live via the Internet and subsequently made available on-demand approximately one week after the event. Visit http://www.vodium.com/goto/fdic/boardmeetings.asp to view the event. If you need any technical assistance, please visit our Video Help page at: http://www.fdic.gov/video.html.

The FDIC will provide attendees with auxiliary aids (e.g., sign language interpretation) required for this meeting. Those attendees needing such assistance should call (703) 562-2404 (Voice) or (703) 649-4354 (Video Phone) to make necessary arrangements.

Requests for further information concerning the meeting may be directed to Mr. Robert E. Feldman, Executive Secretary of the Corporation, at (202) 898-7043.

Dated: January 10, 2012.
Federal Deposit Insurance Corporation.
Robert E. Feldman,
Executive Secretary.

[FR Doc. 2012-636 Filed 1-11-12; 11:15 am]

BILLING CODE P